DEPARTMENT OF DEFENSE

Department of the Army

Advisory Committee on Arlington National Cemetery

AGENCY: Department of the Army, DoD.

ACTION: Notice of cancelled open committee meeting.

SUMMARY: Pursuant to the Federal Advisory Committee Act of 1972 (5 U.S.C., Appendix, as amended), the Sunshine in the Government Act of 1976 (U.S.C. 552b, as amended) and 41 Code of the Federal Regulations (CFR 102-3.140 through 160), the Department of the Army announces cancellation of the following committee meeting:

Name of Committee: Advisory Committee on Arlington National Cemetery.

Date of Cancelled Meeting: Thursday, October 3, 2013.

Time of Cancelled Meeting: 9:30 a.m.-3:30 p.m.

Place of Cancelled Meeting: Women in Military Service for America Memorial, Conference Room, Arlington National Cemetery, Arlington, VA.

Reason for Cancellation: Due to the lapse of appropriations, the Department of Defense cancelled the meeting of the Advisory Committee on Arlington National Cemetery on October 3, 2013. As a result, the Department of Defense was unable to provide appropriate notification as required by 41 CFR 102-3.150(a). Therefore, the Advisory Committee Management Officer for the Department of Defense, pursuant to 41 CFR 102-3.150(b), waives the 15- calendar day notification requirement.

FOR FURTHER INFORMATION CONTACT: Ms. Renea C. Yates; Designated Federal Officer; renea.c.yates.civ@mail.mil or 703-614-1248.

Brenda S. Bowen,
Army Federal Register Liaison Officer.

[FR Doc. 2013-25406 Filed 10-25-13; 8:45 am]

BILLING CODE 3710-08-P